DEPARTMENT OF THE INTERIOR

Bureau of Indian Affairs

Land Acquisitions; Agua Caliente Band of Cahuilla Indians of California

AGENCY: Bureau of Indian Affairs, Interior.

ACTION: Notice of Final Agency Determination to take land into trust under 25 CFR Part 151.

SUMMARY: The Principal Deputy Assistant Secretary—Indian Affairs made a final agency determination to acquire approximately 1.71 acres of land into trust for the Agua Caliente Band of Cahuilla Indians of California on April 21, 2004. This notice is published in the exercise of authority delegated by the Secretary of the Interior to the Principal Deputy Assistant Secretary—Indian Affairs by 209 Departmental Manual 8.1.

FOR FURTHER INFORMATION CONTACT: George Skibine, Office of Indian Gaming Management, Bureau of Indian Affairs, MS-4543 MIB, 1849 C Street, NW., Washington, DC 20240; Telephone (202) 219-4066.

SUPPLEMENTARY INFORMATION: This notice is published to comply with the requirement of 25 CFR Part 151.12(b) that notice be given to the public of the Secretary's decision to acquire land in trust at least 30 days prior to signatory acceptance of the land into trust. The purpose of the 30-day waiting period in 25 CFR Part 151.12(b) is to afford interested parties the opportunity to seek judicial review of final administrative decisions to take land in trust for Indian tribes and individual Indians before transfer of title to the property occurs. On April 21, 2004, the Principal Deputy Assistant Secretary—Indian Affairs decided to accept approximately 1.71 acres of land into trust for the Agua Caliente Band of Cahuilla Indians of California under the authority of the Indian Reorganization Act of 1934, 25 U.S.C. 465. The 1.71 parcel is located with the exterior boundaries of the Agua Caliente Indian Reservation in Palm Springs, Riverside County, California. The parcel is an existing parking lot which supports the Band's Spa Resort and Casino.

The property is located within the exterior boundaries of the Agua Caliente Indian Reservation in Palm Springs, Riverside County, California and is described as follows:

A portion of Lot 69 of Section 14, Township 4 South, Range 4 East, San Bernardino Meridian as shown on the supplemental plat showing amended lottings in Section 14, Township 4 South, Range 4 East, San Bernardino Meridian prepared by the United States Department of the Interior, Bureau of Land Management, Washington, DC dated May 27, 1958, also shown as parcel 2 of parcel map No. 15314 recorded in Parcel Map Book 86 at page 100, records of Riverside County, California, described as follows: (PRO Tab 5)

Commencing at the Northeast corner of said Lot 69;

Thence North 89°45′04″ West along the North line of said Lot 69, a distance of 34.80 feet;

Thence South 00°14′56″ West, a distance of 15.00 feet to the true point of beginning.

Thence North 89°45′04″ West and parallel to the northerly line of said Lot 69, a distance of 229.20 feet to the westerly line of said Lot 69;

Thence South 00°04′20″ East along the westerly line of said Lot 69, a distance of 299.92 feet to the Southwest corner thereof;

Thence South 89°45′00″ East along the southerly line of said Lot 69, a distance of 249.11 feet;

Thence North 00°04′35″ West and parallel to the East line of said Lot 69, a distance of 280.03 feet to the beginning of a tangent curve concave southwesterly and having a radius of 20.00 feet;

Thence northwesterly along said curve through a central angle of 80°40′29″ and a length of 31.30 feet to the true point of beginning.

Also shown as parcel 2 of Parcel Map No. 15314, in the City of Palm Springs, County of Riverside, State of California, on file in Book 86 of parcel maps, page 100, in the Office of the County Recorder of said County.

Dated: April 21, 2004.
Aurene M. Martin,
Principal Deputy Assistant Secretary—Indian Affairs.

[FR Doc. 04-15939 Filed 7-13-04; 8:45 am]

BILLING CODE 4310-4N-P